DEPARTMENT OF TRANSPORTATION

Surface Transportation Board

[Docket No. FD 35408]

Stillwater Central Railroad, Inc.—Trackage Rights Exemption—BNSF Railway Company

Pursuant to a written trackage rights agreement (Trackage Agreement) dated December 29, 2004, BNSF Railway Company (BNSF) granted approximately 5.5 miles of incidental overhead trackage rights to Stillwater Central Railroad, Inc. (SLWC), extending between: (1) Milepost 384.6 and milepost 390.0, on the Red Rock Subdivision, in Oklahoma City, Okla.; and (2) a point 500 feet west of the wye connecting the Packing Town Lead and the point of connection between the Packing Town Lead and BNSF's Red Rock Subdivision.¹ Now, pursuant to the Trackage Agreement and a First Amendment, BNSF has agreed to amend SLWC's existing overhead trackage rights to grant SLWC: (1) Overhead trackage rights between milepost 383.0, at Oklahoma City, and milepost 394.5, south of Flynn Yard in Oklahoma City, including the wye connecting the east end of the Packing Town Lead to the Red Rock Subdivision; and (2) local trackage rights to serve the Cargill Animal Nutrition Facility (Cargill Facility) on the Packing Town Lead using tracks 7405-0801 and 7405-0802.

¹ In Stillwater Central Railroad, Inc.—Lease Exemption—The Burlington Northern and Santa Fe Railway Co., FD 34610 (STB served Jan. 19, 2005), SLWC was authorized to acquire by lease and to operate approximately 12.6 miles of rail line from BNSF between: (1) Milepost 549.01 at Wheatland, Okla., and milepost 542.0 at Oklahoma City, including the Dayton Lead in Wheatland; (2) milepost 540.0 west of the BNSF North Yard, in Oklahoma City, and milepost 536.4 in Oklahoma City, including the North Yard; and (3) milepost 0.0 on the Packing Town Lead, and a point 500 feet west of the wye connecting the Packing Town Lead with BNSF's Red Rock Subdivision, in addition to the 5.5 miles of incidental overhead trackage rights described herein.

The transaction is scheduled to be consummated on September 29, 2010, the effective date of the exemption (30 days after the exemption was filed). The purpose of the First Amendment is to permit SLWC to provide local service to the Cargill Facility. According to SLWC, the First Amendment will also correct a minor typographical error in the Trackage Agreement and an inadvertent error in the description of the mileposts set forth in SLWC's notice of exemption in Docket No. FD 34610.²

² On September 8, 2010, SLWC filed a letter stating that it had incorrectly sought overhead trackage rights between mileposts 384.6 and 390.0 on the Red Rock Subdivision granted in FD 34610. SLWC states that the correct mileposts should have been 383.0 and 394.5, as reflected in its notice of exemption in FD 35408.

As a condition to this exemption, any employees affected by the trackage rights will be protected by the conditions imposed in Norfolk & Western Railway—Trackage Rights—Burlington Northern, Inc., 354 I.C.C. 605 (1978), as modified in Mendocino Coast Railway, Inc.—Lease and Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by September 22, 2010 (at least 7 days before the exemption becomes effective).

An original and 10 copies of all pleadings, referring to Docket No. FD 35408, must be filed with the Surface Transportation Board, 395 E Street, SW., Washington, DC 20423-0001. In addition, a copy of each pleading must be served on Karl Morell, Of Counsel, Ball Janik LLP, Suite 225, 1455 F Street, NW., Washington, DC 20005.

Board decisions and notices are available on our Web site at “WWW.STB.DOT.GOV.”

Decided: September 10, 2010.
By the Board, Rachel D. Campbell, Director, Office of Proceedings.
Kulunie L. Cannon,
Clearance Clerk.

[FR Doc. 2010-22960 Filed 9-14-10; 8:45 am]

BILLING CODE 4915-01-P